NUCLEAR REGULATORY COMMISSION

[Docket Nos. 50-390-CivP; 50-327-Civ.P; 50-328-CivP; 50-259-CivP; 50-260-CivP; 50-296-CivP; ASLBP No. 01-791-01-CivP EA 99-234]

Atomic Safety and Licensing Board; Tennessee Valley Authority (Watts Bar Nuclear Plant, Unit 1; Sequoyah Nuclear Plant, Units 1 & 2; Browns Ferry Nuclear Plant, Units 1, 2 & 3); Notice of Hearing

June 28, 2001.

Before Administrative Judges: Charles Bechhoefer, Chairman, Dr. Richard F. Cole, Ann Marshall Young

This proceeding involves a proposed civil penalty of $110,000, sought to be imposed by the NRC Staff on the Tennessee Valley Authority (TVA or Licensee) for an alleged violation of NRC's employee-protection requirements set forth in 10 C.F.R. 50.7, based upon the asserted discrimination against a former employee for engaging in protected activities. In response to an Order Imposing Civil Monetary Penalty, published at 66 FR 27166 (May 16, 2001), TVA on June 1, 2001, filed a timely request for a hearing. On June 26, 2001, an Atomic Safety and Licensing Board, consisting of Dr. Richard F. Cole, Ann Marshall Young, and Charles Bechhoefer, who serves as Chairman, was established to preside over this proceeding.

Notice is hereby given that, by Memorandum and Order dated June 28, 2001, the Atomic Safety and Licensing Board has granted the request for a hearing submitted by TVA. This proceeding will be conducted under the Commission's hearing procedures set forth in 10 C.F.R. Part 2, Subparts B and G. Parties to this proceeding are TVA and the NRC Staff. The issues to be considered, as set forth in the Order Imposing Civil Monetary Penalty, are (a) whether the Licensee violated the Commission's requirements, as set forth in the Notice of Violation and Proposed Imposition of Civil Penalty, dated February 7, 2001; and, if so, (b) whether, on the basis of such violation, the Order Imposing Civil Monetary Penalty should be sustained.

Documents related to this proceeding, issued prior to December 1, 1999, are available in microfiche form (with print form available on one-day recall) for public inspection at the Commission's Public Document Room (PDR), Room 0-1 F21, NRC One White Flint North, 11555 Rockville Pike, Rockville, Maryland 20852-2738. Documents issued subsequent to November 1, 1999 are available electronically through the Agencywide Documents Access and Management System (ADAMS), with access to the public through NRC's Internet Web site (Public Electronic Reading Room Link, <http://www.nrc.gov/NRC/ADAMS/index.html>). The PDR and many public libraries have terminals for public access to the Internet.

During the course of this proceeding, the Licensing Board may conduct one or more prehearing conferences and evidentiary hearing sessions. The time and place of these sessions will be announced in Licensing Board Orders. Except as limited by the parameters of telephone conferences (which are in any event to be transcribed), members of the public are invited to attend any such sessions.

Dated: Rockville, Maryland, June 28, 2001.
For the Atomic Safety and Licensing Board.
Charles Bechhoefer,
Chairman, Administrative Judge.

[FR Doc. 01-16774 Filed 7-3-01; 8:45 am]

BILLING CODE 7590-01-P